DEPARTMENT OF COMMERCE

National Oceanic and Atmospheric Administration

RIN 0648-XD764

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The SSC meeting will be held on Wednesday and Thursday, March 18-19, 2015. The meeting will begin at 9 a.m. on March 18 and conclude by 2 p.m. on March 19, 2015.

ADDRESSES: The meeting will be held at Pier V, 711 Eastern Avenue, Baltimore, MD 21202; telephone: (410) 539-2000.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: Agenda items to be discussed at the SSC meeting include: Review fishery performance report and multi-year ABC specifications for golden tilefish; discuss MAFMC risk policy and stock assessment level assignments; review Climate and Fisheries White Paper; update on research prioritization and five-year research plan development; review data poor methods applied to black sea bass for potential changes to current and future ABC specification; discuss outcomes from the Fifth National SSC Workshop; receive update on Ecosystem Approach to Fisheries Management activities and building MSE capacity on Greater Atlantic Region; discuss SSC schedule and lead assignments for 2015.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: February 25, 2015.
Tracey L. Thompson,
Acting Deputy Director, Office of Sustainable Fisheries, National Marine Fisheries Service.

[FR Doc. 2015-04217 Filed 2-27-15; 8:45 am]

BILLING CODE 3510-22-P